ENVIRONMENTAL PROTECTION AGENCY

40 CFR Part 60

[EPA-R04-OAR-2022-0408; FRL-9560-01-R4]

South Carolina; New Stationary Sources; Supplemental Delegation of Authority

AGENCY: Environmental Protection Agency (EPA)

ACTION: Notification.

SUMMARY: On September 23, 2021, the South Carolina Department of Health and Environmental Control (SCDHEC or State agency) requested to change its delegation mechanism from “adopt-by-reference” to “automatic” for delegation of New Source Performance Standards (NSPS) under our regulations. The purpose of the State agency request for approval of the “automatic” delegation mechanism is to facilitate consistency with the State agency's “automatic” delegation mechanism for implementation and enforcement of National Emission Standards for Hazardous Air Pollutants rules. With this NSPS delegation mechanism in place, once a new or revised rule is promulgated by EPA, delegation of authority from EPA to the State agency will become effective on the date the rule is promulgated. No further State requests for delegation will be necessary. Likewise, no further Federal Register notices will be published. EPA reserves the right to implement the federal NSPS directly and continues to retain concurrent enforcement authority. EPA is providing notice that it approved SCDHEC's request on January 17, 2022.

DATES: August 19, 2022.

ADDRESSES: Copies of the request to change the delegation mechanism from “adopt-by-reference” to “automatic” are available for public inspection during normal business hours at the following locations:

Environmental Protection Agency, Region 4, Air and Radiation Division, Air Analysis and Support Branch, 61 Forsyth Street, SW, Atlanta, Georgia 30303.

South Carolina Department of Health and Environmental Control, 2600 Bull Street, Columbia, South Carolina 29201-1708.

Effective January 17, 2022, all requests, applications, reports, and other correspondence required by any NSPS should continue to be submitted to the following address: South Carolina Department of Health and Environmental Control, 2600 Bull Street, Columbia, South Carolina 29201-1708.

Although the EPA is not accepting comments regarding this document, Docket ID No. EPA-R04-OAR-2022-0408 at https://www.regulations.gov contains relevant information related to this information document.

FOR FURTHER INFORMATION CONTACT: Tracy Watson, Stationary Source Team, Communities and Air Toxics Section, Air Analysis and Support Branch, Air and Radiation Division, Environmental Protection Agency, Region 4, 61 Forsyth St. SW, Atlanta, Georgia 30303, 404-562-8998. Email: watson.marion@epa.gov

SUPPLEMENTARY INFORMATION:

I. Background

Section 301, in conjunction with sections 101 and 111(c)(1) of the Clean Air Act as amended November 15, 1990, authorizes EPA to delegate authority to implement and enforce the standards set out in 40 CFR part 60, New Source Performance Standards (NSPS).

The EPA first delegated the authority for implementation and enforcement of the NSPS program to the State of South Carolina on October 19, 1976. See 42 FR 4188. The EPA later approved SCDHEC's request to use the “adopt-by-reference” delegation mechanism for implementation and enforcement of the NSPS program in South Carolina on March 27, 2001. See 66 FR 16606.

On September 23, 2021, the EPA received a letter from SCDHEC “requesting to receive automatic delegation as the delegation mechanism for 40 CFR part 60, Standards of Performance for New Stationary Sources (NSPS).” SCDHEC's letter further explained that this updated delegation method would “replace South Carolina's current NSPS delegation mechanism of adopt-by-reference.”

II. Update to Delegation Method

After a thorough review of the request, the Regional Administrator has determined that the laws, rules, and regulations for the State agency provide an adequate and effective procedure for implementation and enforcement of the NSPS. The EPA, therefore, hereby notifies the public that it has approved the automatic delegation mechanism for delegation of the NSPS source categories. This approval became effective on January 17, 2022. A copy of the EPA's letter approving SCDHEC's request, with enclosures, is available at Docket ID No. EPA-R04-OAR-2022-0408 at https://www.regulations.gov.

Authority: This document is issued under the authority of sections 101, 111, and 301 of the Clean Air Act, as Amended (42 U.S.C. 7401, 7411, and 7601).

Dated: August 3, 2022.
Daniel Blackman,
Regional Administrator, Region 4.

[FR Doc. 2022-17112 Filed 8-18-22; 8:45 am]

BILLING CODE 6560-50-P